DEPARTMENT OF STATE

[Public Notice 5172]

FY 2005 Funding Under the Research and Training for Eastern Europe and the Independent States of the Former Soviet Union Act of 1983 (Title VIII)

Deputy Secretary of State Robert B. Zoellick approved on July 20, 2005, the FY 2005 funding recommendations of the Advisory Committee for the Study of Eastern Europe and the Independent States of the Former Soviet Union. The FY 2005 Title VIII Program grants were awarded in late September 2005. The Title VIII Program, administered by the U.S. Department of State, seeks to build expertise on the countries of Eurasia and Central and East Europe through support to national organizations in the U.S. for advanced research, language and graduate training, and other activities conducted domestically and overseas. The FY 2005 grant recipients are listed below.

1. American Council of Learned Societies

Grant: $517,000 ($517,000 Southeast Europe).

Purpose: To support Individual Language Training Grants; Institutional Language Grants; Institutional Advanced Mastery Grants; the Dissertation Fellowships; the Junior Scholars' Training Seminar; and the Post-Doctoral Research Fellowships.

Contact: Andrzej W. Tymowski, Director of International Programs, American Council of Learned Societies, 633 Third Avenue, New York, NY 10017-6795, Tel: (646) 485-5945, Fax: (212) 949-8058, E-mail: ANDRZEJ@acls.org.

2. American Councils for International Education

Grant: $525,000 ($425,000-Eurasia, $100,000-Southeast Europe).

Purpose: To support fellowships for research and language training programs in Eurasia and Southeast Europe, including Advanced Russian Language and Area Studies Grants; Eurasia Regional Language Program Grants; Combined Research and Language Training Fellowships on Eurasia; Research Scholar Fellowships on Eurasia and Southeast Europe; Special Initiatives Research Fellowships on Central Asia and the Caucasus; Russian Language Flagship Fellowships; and Southeast Europe Language Fellowships. Contact: Graham Hettlinger, Program Manager, American Councils for International Education, 1776 Massachusetts Avenue, NW., Suite 700, Washington, DC 20036, Tel: (202) 833-7522, ext. 168, Fax: (202) 833-7523, E-mail: hettlinger@actr.org.

3. International Research and Exchanges Board

Grant: $801,000 ($500,000-Eurasia; $301,000-Southeast Europe).

Purpose: To support Individual Advanced Research Opportunities on policy relevant topics on Eurasia and Southeast Europe; Short-term Travel Grants, including four fellowships at embassies; Policy Connect Program for Collaborative Research; and the Regional Policy Symposium on EU Borderlands in conjunction with the Woodrow Wilson Center.

Contact: Joyce Warner, Director, Academic Exchanges and Research Division, International Research and Exchanges Board, 2121 K Street, NW., Suite 700, Washington, DC 20037, Tel: (202) 628-8188, Fax: (202) 628-8189, E-mail: jwarner@irex.org.

6. National Council for Eurasian and East European Research

Grant: $1,017,000 ($690,000-Eurasia; $327,000-Southeast Europe).

Purpose: To support the research contracts and fellowship grants of the National Research Program; the Hewett Fellowships; the Short-term Research Fellowships; and the Policy Research Fellowships.

Contact: Robert Huber, President, National Council for Eurasian and East European Research 910 Seventeenth Street, NW., Suite 300, Washington, DC 20006, Tel: (202) 822-6950, Fax: (202) 822-6955, E-mail: dc@nceeer.org.

5. Social Science Research Council

Grant: $700,000 ($700,000-Eurasia).

Purpose: To support advanced graduate and dissertation fellowships; post-doctoral fellowships; one dissertation workshop; the Training Seminar in Policy Research; the institutional language programs for advanced Russian and other Eurasian languages; and outreach and field-building activities.

Contact: Anthony Koliha, Assistant Director, Eurasia Program, Social Science Research Council, 810 Seventh Avenue, 31st Floor, New York, NY 10019, Tel: (212) 377-2700, Fax: (212) 377-2727 E-mail: koliha@ssrc.org.

6. University of Illinois at Urbana-Champaign

Grant: $175,000 ($125,000-Eurasia; $50,000-Southeast Europe).

Purpose: To support the Slavic Reference Service, which provides assistance to scholars in locating hard-to-find resources through electronic library resources, and electronic delivery of reference materials and resources; the Summer Research Laboratory, which provides two weeks of housing for associates pursuing policy relevant research on Russia, Southeast Europe, and Eurasia; a Balkans Studies Workshop for Junior Scholars and a Russian-Jewish Studies Training Workshop for Junior Scholars; and travel grants for doctoral students to conduct policy relevant research on Eurasia and Southeast Europe at the University of Illinois.

Contact: Merrily Shaw, Assistant to the Director of the Russian and East European Center, University of Illinois at Urbana-Champaign, 104 International Studies Building, 910 South Fifth Street, Champaign, IL 61820, Tel: (217) 244-4721/333-1244, Fax: (217) 333-1582, E-mail: mshaw2@uiuc.edu or reec@uiuc.edu.

7. University of Michigan: William Davidson Institute and Institute for Social Research

Grant: $100,000 (100,000-Eurasia).

Purpose: To support grants for research projects on business development, public policy and social research on Eurasia.

Contact: Kelly Janiga, Manager of Research Programs, The William Davidson Institute, University of Michigan Business School, 724 East University Avenue, Ann Arbor, MI 48109-1234, Tel: (734) 615-4562, Fax: (734) 763-5850, E-mail: janigak@umich.edu.

8. The Woodrow Wilson International Center for Scholars

Grant: $715,000 ($425,000-Eurasia; $290,000-Southeast Europe).

Purpose: To support the residential programs for post-doctoral Research Scholars, Short-term Scholars and Interns; the Meetings Program for both the Kennan Institute and East European Studies, including a Workshop on Democracy and Civil Society in Ukraine; the Regional Policy Symposium on EU Borderlands in conjunction with IREX; and the East European Studies Program's Junior Scholars' Training Seminar in conjunction with the American Council of Learned Societies.

Contact: Martin Sletzinger, Director, East European Studies, Tel: (202) 691-4263, E-mail: martin.sletzinger@wilsoncenter.org. Maggie Paxson, Senior Associate, Kennan Institute, Tel: (202) 691-4237, E-mail: Margaret.Paxson@wilsoncenter.org. The Woodrow Wilson Center, 1300 Pennsylvania Avenue, NW., Washington, DC 20004-3027, Fax: (202) 691-4247.

Dated: October 24, 2005.
Kenneth E. Roberts,
Executive Director, Advisory Committee for Study of Eastern Europe and the Independent States of the Former Soviet Union, Department of State.

[FR Doc. E5-6620 Filed 11-25-05; 8:45 am]

BILLING CODE 4710-32-P